DEPARTMENT OF ENERGY

Federal Energy Regulatory Commission

[Docket No. EC00-90-000]

P&L Coal Holdings Corporation, Edison Mission Energy, Citizens Power LLC; Notice of Filing

May 24, 2000.

Take notice that on May 22, 2000, P&L Coal Holdings Corporation (P&L), Edison Mission Energy (Mission), and Citizens Power LLC (collectively, Applicants) filed a supplement to their Application for Order Authorizing Sale of Equity Interests filed on May 12, 2000 in this docket. The supplement consists of the Purchase and Sale Agreement by and among Mission, P&L and Gold Fields Mining Corporation, to meet the Exhibit H requirements of Part 33 of the filing requirements. Applicants request privileged treatment for the Purchase and Sale Agreement, pursuant to 18 CFR 388.112 of the Commission's Regulations.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before June 12, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-14127 Filed 6-5-00; 8:45 am]

BILLING CODE 6717-01-M